DEPARTMENT OF TRANSPORTATION

Federal Railroad Administration

[Docket Number FRA-2012-0049]

Petition for Waiver of Compliance

In accordance with Part 211 of Title 49 Code of Federal Regulations (CFR), this document provides the public notice that by a document dated May 4, 2012, Union Pacific Railroad (UP) has petitioned the Federal Railroad Administration (FRA) for a waiver of compliance from certain provisions of the Federal railroad safety regulations contained at 49 CFR part 235. FRA assigned the petition Docket Number FRA-2012-0049.

UP seeks relief from the requirements of 49 CFR 235.5 to expedite successful installation of Positive Train Control (PTC), mandated by the Rail Safety Improvement Act of 2008. UP will be updating first-generation, nonmicroprocessor-based coded track circuitry; eliminating certain searchlight signal mechanisms; and relocating some signals or making other changes that may require submission of an application and that have not been previously addressed. In requesting this waiver, UP proposes to perform minimal modifications to existing signal systems, while maintaining compliance with 49 CFR part 236, in the same manner and process as provided for under 49 CFR 235.7(c)(24)(vi). This relief will allow for expedited beneficial modification of existing signal systems in preparation for the installation of PTC, and it would reduce the administrative workload for both FRA and UP. Additionally, this relief would reduce the approval delay, while still providing FRA review and oversight of the proposed changes in the same manner as pole line elimination projects.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by July 9, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on May 18, 2012.
Ron Hynes,
Acting Deputy Associate Administrator for Regulatory and Legislative Operations.

[FR Doc. 2012-12717 Filed 5-24-12; 8:45 am]

BILLING CODE 4910-06-P